DEPARTMENT OF AGRICULTURE

Forest Service

Payette National Forest, ID, Gaylord North Timber Sale

AGENCY: Forest Service, USDA.

ACTION: Notice of intent to prepare an environmental impact statement.

SUMMARY: The USDA Forest Service will prepare the Gaylord North Timber Sale. The proposed action in the EIS is to manage timber stands to improve their productivity, reduce fire risk to timber and facilities in the Weiser River Canyon, reduce severity of current and future insect and disease activity, improve some compacted soils, decrease existing road levels, and provide wood fiber for society. The selected alternative from the decision notice (1996) for the Filly Creek and Rubicon timber sales will be the basis for the proposed action for the Gaylord North Timber Sale EIS. The EIS will analyze the effects of the proposed action and alternatives. The Payette National Forest invites written comments and suggestions on the scope of the analysis and the issues to address. The agency gives notice of the full National Environmental Policy Act (NEPA) analysis and decision making process on the proposal so interested and affected members of the public may participate and contribute in the final decision.

DATES: Comments need to be received in writing by May 28, 2002.

ADDRESSES: Send written comments to Faye L. Krueger, District Ranger, Council Ranger District, Payette National Forest, P.O. Box 567, Council, Idaho, 83612.

FOR FURTHER INFORMATION CONTACT: Questions about the proposed project and scope of analysis should be directed to Michael Hutchins, NEPA Coordinator, at the above address, or by phone at (208) 253-0100.

SUPPLEMENTARY INFORMATION: The analysis area is about 12 air miles northeast to Council, Idaho. The proposed project is on the Council Ranger District within the 8,700-acre Beaver Creek subwatershed and the 7,700-acre Gaylord/Woodland subwatershed, two of six subwatersheds within the larger Upper Weiser River Watershed. The selected alternative from the decision notice (1996) for the Filly Creek and Rubicon timber sales will be the basis for the proposed action for the Gaylord North Timber Sale EIS. The proposed action will be in compliance with the Payette National Forest Land and Resource Management Plan (Forest Plan. 1988), as amended, which provides overall guidance for management of this area.

The purpose and need for activities are: (1) Provide wood fiber for society and contribute to the economic and social well-being of many people in the surrounding area and other areas; (2) generate revenue to finance activities to meet objectives in the Forest Plan; (3) manage timber stands to improve their productivity and move toward the desired conditions in the Forest Plan; (4) reduce fire risk to timber and facilities within the Weiser River Canyon; (5) reduce the severity of current and future insect and disease activity affecting timber stands in the area; (6) improve compacted soils on skid trails and landings; (7) improve fish and wildlife habitat, and water quality; and (8) contribute to meeting the Council Ranger District's portion of the Payette National Forest allowable sale quantity as established by the Forest Plan.

The proposal includes a variety of activities to meet the above eight purpose and need statements. (1) Harvest about 17 million board feet of timber from about 2,800 acres (about 15% of the project area). Harvest prescription would consist of 735 acres of commercial thinning, 450 acres of shelterwood harvesting, 920 acres of reserve tree harvesting, and 695 acres of sanitation and salvage harvesting. Yarding systems would consist of 1,490 acres of tractor logging, 990 acres of skyline logging, and 320 acres of helicopter logging. (2) Plant about 945 acres with conifer seedlings. (3) Finalize construction of 17.5 miles of road, of which 11.6 miles have been substantially completed (some blading, clearing and burning of slash, seeding, and gate installation, etc. remain to be completed), 2.1 miles have been “pioneered” (right-of-way logs cut and skidded), and 3.8 miles have not been started. (4) Following activities, keep open the Beaver Creek Road (#50169), Beaver Creek Contour Road (#50167), Vick Road (#50176), Joker Creek Road (#50486), Joker Creek Cutoff Road (#50149), Marlin Road (#51495), Rubicon Road (#50587), Gaylord Creek Road (#50171), Trestle Pin Road (#51648), Gay Pin Road (#51694), Railroad Creek Road (#50629), Filly Creek Road (#50168), and the Filly Creek Contour Road (#50179). (5) Continue closure of the Beaver State Road (#51588), Beaver Pin Road (#51535), and the Beaver Gulch Road (#51696) following activities. (6) Decommission about 20 miles of existing road about 11 miles of classified roads and 9 miles of non-classified roads), of which 13.2 miles are in riparian areas, through timber sale generated funds. (7) Improve about 21 miles of existing roads by repairing road surfaces, ditches, and stream crossing and placing gravel on about 12 miles or unsurfaced roads. (8) Reduce the open road density in the area from 2.8 miles of open road per square mile to 2.0 miles (a square mile is generally a section in size). (9) Extend Road #50474 by 0.7 miles down the ridgeline on the south side of Gaylord Creek to allow 85 acres to be skyline logged with the requirement that long butts and tops with attached limbs will be yarded to the landings. Logging slash will be burned at these landings. (10) Pile and burn about 690 acres (of which about 170 acres are within the Weiser River canyon) and broadcast burn about 345 acres (of which about 90 acres are within the Weiser River canyon). (11) Rip about 70 acres of skid trails and 55 acres of log landings following timber sale activities. (12) Monitor to ensure accomplishment of project objectives and validate assumptions. If timber sale generated funds are available, the following additional activities would be implemented: (a) fence about 625 acres of regeneration treatments on slopes less than 35 percent to exclude cattle grazing following reforestation, (b) rip about 80 acres of existing skid trails and 65 acres of existing log landings, and (c) implement additional watershed restoration by using gully plugs, channel rerouting, vegetation planting, and adding large woody debris and fish habitat structures to streams.

The Forest Service will identify issues the analysis should address. The following resource areas will likely need to be analyzed in the EIS: (1) Water Quality—The proposal may increase erosion and sedimentation within the analysis area, impair beneficial uses of water, and affect a 303(d) listed stream (Weiser River). (2) Fisheries Resource—The proposal may adversely affect aquatic habitats for native fishes. (3) Forest Vegetation—Some timbered stands in the project area are susceptible to insects and disease, and by fire. Timber stand structure, species composition, and density have moved away from historic conditions. The proposal will alter vegetation structure, composition, and density. (4) Fire and Fuels—Risk of fire to private lands, homes, powerlines, and Highway 95 is concentrated in the Weiser River Canyon. (5) Wildlife Resource—The proposal may affect abundance, distribution, and structure of terrestrial species (endangered and threatened, Payette National Forest sensitive, and management indicator species) and the continued capability of the watershed to support viable populations. (6) Roads and Access Management—The level of road reconstruction and decommissioning needed to improve aquatic and terrestrial species may affect some Forest users' ability to access the area by motorized vehicle. (7) Economics/Socio-Economics—The proposal has potential to influence income and jobs.

A range of reasonable alternatives will be considered. The no-action alternative will serve as a baseline for comparison of alternatives. The proposed action will be considered along with additional alternatives developed that meet the purpose and need and address significant issues identified during scoping. Alternatives may have different amounts, locations, and types of project activities.

Comments received in response to this notice, including the names and addresses of those who comment, will be part of the project record and available for public review.

A public meeting is anticipated to occur following issuance of the draft EIS. The public meeting will be announced in the Payette National Forest's newspaper of record, the Idaho Statesman, Boise, Idaho.

The Forest Service is seeking information and comments from other Federal, State, and local agencies; Tribal governments; organizations; and individuals who may be interested in or affected by the proposed action. This input will be used in the preparation of the draft EIS.

Comments will be appreciated throughout the analysis process. The draft EIS will be filed with the Environmental Protection Agency (EPA) and is anticipated to be available for public review by Fall 2002. The comment period on the draft EIS will be 45 days. It is important that those interested in the management of the Payette National Forest participate at that time.

The Forest Service believes it is important to give reviewers notice of several court rulings related to public participation in the environmental review process. First, reviewers of draft EISs must structure their participation in the environmental review of the proposal so that it is meaningful and alerts an agency to the reviewer's position and contentions. Vermont Yankee Nuclear Power Corp., v. NRDC, 435 U.S. 519, 553 (1978). Also, environmental objections that could be raised at the draft EIS stage, but that are not raised until completion of the final EIS, may be waived or dismissed by the courts. City of Angoon v. Hodel, 803 F .2d 1016, 1002 (9th Cir. 1986), and Wisconsin Heritages, Inc., v. Harris, 490 F. Supp. 1334, 1338 (E.D. Wis. 1980). Because of these court rulings, it is important that those interested in this proposed action participate by the close of the 45-day comment period so substantive comments and objections are made available to the Forest Service at a time when it can meaningfully consider them and respond to them in the final EIS.

To assist the Forest Service in identifying and considering issues raised by the proposed action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act 40 CFR 1503.3 in addressing these points.)

After the 45-day comment period ends on the draft EIS, the Forest Service will analyze comments received and address them in the final EIS. The final EIS is scheduled to be released in spring 2003. In the final EIS, the Forest Service will respond to substantive comments received during the 45-day comment period. The Responsible Official (Forest Supervisor, Payette National Forest) will document the Gaylord North Timber Sale EIS decision and rationale in a Record of Decision (ROD). The decision will be subject to review under Forest Service appeal regulations 36 CFR part 215.

Dated: April 16, 2002.
Robert S. Giles,
Acting Forest Supervisor.

[FR Doc. 02-9723 Filed 4-19-02; 8:45 am]

BILLING CODE 3410-11-M